DEPARTMENT OF AGRICULTURE

Food Safety and Inspection Service

[Docket No. FSIS-2008-0011]

Shiga Toxin-Producing E. coli Public Meeting

AGENCY: Food Safety and Inspection Service, USDA.

ACTION: Notice of public meeting.

SUMMARY: This notice is announcing that the U.S. Department of Agriculture's (USDA) Food Safety and Inspection Service (FSIS) will sponsor a public meeting on April 9-10, 2008. The purpose of the meeting is to have a discussion with stakeholders on recent spikes in recalls and illnesses related to Escherichia coli (E. coli) O157:H7, provide updates on FSIS initiatives related to E. coli O157:H7, review perspectives, research progress, and build a foundation for establishing solutions to address the challenges this pathogen causes.

DATES: The public meeting will be held on Wednesday, April 9, 2008, 8 a.m. to 5 p.m., and Thursday, April 10, 2008, 8 a.m. to 1 p.m.

ADDRESSES: The meeting will be held at the Holiday Inn Georgetown, 2101 Wisconsin Avenue, NW., Washington, DC 20007, Phone: (202) 338-3120, Web site: http://www.higeorgetown.com.

Any changes to meeting dates, times, location, and agenda will be posted on the FSIS Web site and announced in the Agency's Constituent Update.

Registration

Pre-registration for this meeting is encouraged. To pre-register to attend in person or via teleconference, access the FSIS Web site, http://www.fsis.usda.gov. Contact Sheila Johnson for more information on logistics at (202) 690-6498 or via e-mail at Sheila.johnson@fsis.usda.gov.

All documents related to the meeting will be available for public inspection in the FSIS Docket Room, 1400 Independence Avenue, SW., Room 2534 South Building, Washington, DC 20250, between 8:30 a.m. and 4:30 p.m., Monday through Friday, as soon as they become available.

FSIS will finalize an agenda on or before the meeting date and post it and the documents related to the public meeting on the FSIS Web page at: http://www.fsis.usda.gov/News/Meetings_&_Events/.

Also, when it becomes available, the official transcript of the meeting will be kept in the FSIS Docket Room at the above address and will also be posted on the Agency Web site, http://www.fsis.usda.gov.

FOR FURTHER INFORMATION CONTACT: Keith Payne, Phone: (202) 690-6522, FAX: (202) 690-6519, e-mail: keith.payne@fsis.usda.gov or at the mail address: USDA, FSIS, 1400 Independence Avenue, SW., Room 1175, South Building, Washington, DC 20250.

Persons requiring a sign language interpreter or other special accommodations should notify Mr. Payne by April 2, 2008.

SUPPLEMENTARY INFORMATION:

Background

Shiga toxin-producing E. coli (STEC) was first identified in the early 1980s in North America as the cause of outbreaks of bloody diarrhea, often leading to severe and fatal illness. These outbreaks were associated with ground beef consumption, and E. coli O157:H7 was the STEC identified as causing the illnesses. In 1994, FSIS notified the public that raw ground beef contaminated with E. coli O157:H7 is adulterated under the Federal Meat Inspection Act unless the ground beef is processed to destroy this pathogen. Also in 1994, FSIS began sampling and testing ground beef for E. coli O157:H7.

On January 19, 1999, FSIS published a policy statement in the Federal Register that explained that if non-intact raw beef products or intact raw beef products that are to be processed into non-intact product prior to distribution for consumption are found to be contaminated with E. coli O157:H7, they will be deemed to be adulterated if not processed to destroy the pathogen (64 FR 2803).

Beginning at least with the high prevalence season for E. coli O157:H7 in April 2007, some control measures for E. coli O157:H7 implemented by beef operations have proven to be inadequate. During the period following April 2007, there has been an increased number of positives in Agency sampling for E. coli O157:H7 compared to the preceding three years, a couple of outbreaks attributed to this pathogen and beef products, and a number of large recalls. FSIS took a number of steps to address the increase in Agency E. coli O157:H7 positive results, outbreaks, and illnesses.

For example, on October 12, 2007, FSIS issued instructions to inspection program personnel to inform establishments producing raw beef products that they had an obligation (under 9 CFR 417.4(a)(3)) to reassess their HACCP system to determine whether any changes were necessary in response to these E. coli O157:H7 developments. On October 12, 2007, FSIS also instructed inspection program personnel at establishments producing raw beef products to complete an on-line checklist detailing steps the establishment takes to address E. coli O157:H7. FSIS intends to use the information from the checklist to determine targeted approaches for Agency E. coli O157:H7 verification testing.

Also in October 2007, FSIS implemented other steps, including follow-up sampling and testing of raw ground beef, raw ground beef trimmings, and other raw ground beef and raw beef patty components in response to an FSIS positive E. coli O157:H7 result or another Federal or State entity's positive E. coli O157:H7 result. It also announced that it would begin routine sampling and testing of raw ground beef components (including raw beef patty components) other than beef manufacturing trimmings for E. coli O157:H7. Raw ground beef components other than beef manufacturing trimmings include two piece chucks and other primal/sub-primal cuts intended for use in raw ground beef or other raw non-intact product, raw esophagus (weasand) meat, head meat, cheek meat, beef from advanced meat recovery (AMR) systems, low temperature rendered lean finely textured beef (LFTB), partially defatted chopped beef, partially defatted beef fatty tissue, and heart meat. Finally, on January 1, 2008, FSIS began a new risk-based sampling program for E. coli O157:H7 that takes into account establishment volume.

To continue to take steps to address E. coli O157:H7, FSIS will hold a public meeting on Wednesday and Thursday, April 9-10, 2008, to facilitate discussion with stakeholders on recent spikes in recalls and illnesses related to E. coli O157:H7; provide updates on FSIS initiatives related to E. coli O157:H7; and solicit input from producers, industry, consumers, academia, states, and other public health and regulatory agencies for possible solutions to address the challenges this pathogen presents.

All interested parties are welcome to attend the meeting and to submit written comments on the agenda items after they are discussed through May 7, 2008, to Mr. Payne by phone (202) 690-6522, fax (202) 690-6519, e-mail: Keith.payne@fsis.usda.gov, or at the mail address: USDA, FSIS, 1400 Independence Avenue, SW., Room 1175, South Building, Washington, DC 20250. Individuals who do not wish FSIS to post their personal contact information—mailing address, e-mail address, telephone number—on the Internet may leave the information off their comments.

The comments and the official transcript of the meeting, when they become available, will be posted on the agency's Web site at http://www.fsis.usda.gov.

Additional Public Notification

Public awareness of all segments of rulemaking and policy development is important. Consequently, in an effort to ensure that minorities, women, and persons with disabilities are aware of this notice, FSIS will announce it online through the FSIS Web page located at http://www.fsis.usda.gov/regulations/2008_Notices_Index/. FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. Through Listserv and the Web page, FSIS is able to provide information to a much broader and more diverse audience. In addition, FSIS offers an electronic mail subscription service which provides automatic and customized access to selected food safety news and information. This service is available at http://www.fsis.usda.gov/news_and_events/email_subscription/. Options range from recalls to export information to regulations, directives and notices. Customers can add or delete subscriptions themselves, and have the option to password protect their accounts.

Done at Washington, DC, on: March 28, 2008.
Alfred V. Almanza,
Administrator.

[FR Doc. E8-6868 Filed 4-2-08; 8:45 am]

BILLING CODE 3410-DM-P